DEPARTMENT OF AGRICULTURE

Rural Business-Cooperative Service

Notice of Request for Collection of Public Information with Use of a Survey

AGENCY: Rural Business-Cooperative Service, USDA.

ACTION: Proposed collection; comments request.

SUMMARY: In accordance with the Paperwork Reduction Act of 1995, this notice announces the Rural Business-Cooperative Service's (RBS) intention to request an extension of the clearance for an existing information collection in order to render service to associations of producers of agricultural, forestry, fisheries products and federations and subsidiaries thereof as authorized in the Cooperative Marketing Act of 1926.

DATES: Comments on this notice must be received by December 3, 2001 to be assured of consideration.

FOR FURTHER INFORMATION CONTACT: Tracey L. Kennedy, Agricultural Economist, RBS, U.S. Department of Agriculture, 1400 Independence Avenue SW., Stop 3252, Washington, DC 20250- 3252, Telephone (202) 690-1428.

SUPPLEMENTARY INFORMATION: Title: Annual Survey of Cooperative Involvement in International Markets.

Type of Request: Information collection.

Abstract: The mission of the Rural Business-Cooperative Service (RBS), formerly Agricultural Cooperative Service (ACS), is to assist farmer-owned cooperatives in improving the economic well being of their farmer-members. This is accomplished through a comprehensive program of research on structural, operational, and policy issues affecting cooperatives; technical advisory assistance to individual cooperatives and to groups of producers who wish to organize cooperatives; and development of educational and informational material. The authority to carry out RBS's mission is defined in the Cooperative Marketing Act of 1926 (44 Stat. 802-1926). Authority and Duties of Division (7 U.S.C. 453).

(a) The division shall render service to associations of producers of agricultural products, and federations and subsidiaries thereof, engaged in the cooperative marketing of agricultural products including processing, warehousing, manufacturing, storage, the cooperative purchasing of farm supplies, credit, financing, insurance, and other cooperative activities.

(b) The division is authorized to:

(1) Acquire, analyze and disseminate economic, statistical, and historical information regarding the progress, organization, and business methods of cooperative associations in the United States and foreign countries.

(2) conduct studies of the economic, legal, financial, social and other phases of cooperation, and publish the results thereof. Such studies shall include the analyses of the organization, operation, financial and merchandising problems of cooperative organizations.

(3) make surveys and analyses if deemed advisable of the accounts and business practices of representative cooperative associations upon their request; to report to the association so surveyed the results thereof; and with the consent of the association so surveyed to publish summaries of the results of such surveys, together with similar facts, for the guidance of cooperative associations and for the purpose of assisting cooperative associations in developing methods of business and market analysis.

(4) acquire from all available sources, information concerning crop prospects, supply, demand, current receipts, exports, imports, and prices of agricultural products handled or marketed by cooperative associations, and to employ qualified commodity marketing specialists to summarize and analyze this information and disseminate the same among cooperative associations and others.”

RBS also has a stated objective to “assist U.S. farmer cooperatives to expand their participation in international trade of agricultural products and supplies and to review their progress.” As trade agreements are implemented and domestic farm supports are reduced, a global presence is increasingly important to producers, their communities, and to job-creation and retention in agri- and food-related industries. Measurement and monitoring of cooperatives' global presence are stated objectives of RBS's International Trade Program. In order to carry out the agency's mission and objectives, RBS needs to collect information from the cooperative community. This information collection is designed to provide time-series data that will provide a better understanding of the opportunities and limitations of producer-owned cooperatives in global markets. The data provide the basis for research on trade-related issues affecting cooperatives, and background for trade-related policy analysis.

Beginning in 1980, RBS's predecessor agency Agricultural Cooperative Service (ACS) collected cooperative trade data at five year intervals. Value of cooperative exports by commodity and destination were measured, as well as information related to method of sale. Values of imports by cooperatives, by commodity and country of origin were collected in 1986 and 1991. Since 1997, data have been collected on an annual basis (OMB No. 0570-0020), as it had become apparent that data collected at intervals longer than one year do not provide for meaningful analysis. Further, data collected prior to 1997 had been strictly limited to exports and imports, neglecting other important international arrangements such as strategic alliances and foreign direct investment. A more comprehensive, annual data set accomplishes stated CS objectives to measure and monitor cooperatives' global presence. These data are generally not available to RBS unless provided by the cooperatives.

Estimate of Burden: Public reporting burden for this collection of information is estimated to average one (1) hour per response.

Respondents: Cooperatives involved in international activities.

Estimated Number of Respondents: 127.

Estimated Number of Responses per Respondent: one per year.

Estimated Total Annual Burden on Respondents: 127 hours.

Copies of this information collection can be obtained from Jean Mosley, Regulations and Paperwork Management Branch, at (202) 692-0041.

Comments

Comments are invited on: (a) Whether the proposed collection of information is necessary for the proper performance of the function of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through use of appropriate automated, electronic, mechanical, or other technological collection techniques or other forms of information technology.

Comments may be sent to Jean Mosley, Regulations and Paperwork Management Branch, U.S. Department of Agriculture, Rural Development, 1400 Independence Avenue SW., Stop 0742, Washington, DC 20250. All responses to this notice will be summarized and included in the request for OMB approval. All comments will also become a matter of a public record.

Dated: August 24, 2001.
John Rosso,
Acting Administrator, Rural Business-Cooperative Service.

[FR Doc. 01-24670 Filed 10-2-01; 8:45 am]

BILLING CODE 3410-XY-P